INTERNATIONAL TRADE COMMISSION

[Investigation Nos. 701-TA-407 and 731-TA-902, 904, 905 (Review) (Remand)]

Hot-Rolled Steel Products From Kazakhstan, Romania, and South Africa

AGENCY: United States International Trade Commission.

ACTION: Notice of remand proceedings.

SUMMARY: The U.S. International Trade Commission (“Commission”) hereby gives notice of the court-ordered remand of its five-year review determinations in the countervailing duty and antidumping Investigation Nos. 701-TA-407 and 731-TA-902, 904, 905 concerning hot-rolled steel products from Kazakhstan, Romania, and South Africa. For further information concerning the conduct of this proceeding and rules of general application, consult the Commission's Rules of Practice and Procedure, part 201, subparts A through E (19 CFR part 201), and part 207, subpart A (19 CFR part 207).

DATES: May 4, 2009.

FOR FURTHER INFORMATION CONTACT: Mary Messer, Office of Investigations, telephone 202-205-3193, or Robin L. Turner, Office of General Counsel, telephone 202-205-3103, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of the underlying reviews (Investigation Nos. 701-TA-404-408 and 731-TA-898-902 and 904-908 (Review)) may be viewed on the Commission's electronic docket (“EDIS”) at http://edis.usitc.gov.

SUPPLEMENTARY INFORMATION: Background.—In October 2007, the Commission determined that revocation of the countervailing duty order on hot-rolled steel products from South Africa, and that revocation of the antidumping duty orders on hot-rolled steel products from Kazakhstan, Romania, and South Africa, would not be likely to lead to continuation or recurrence of material injury to an industry in the United States within a reasonably foreseeable time. The Commission's determinations were appealed to the Court of International Trade (“CIT” or “Court”). On March 9, 2009, the Court issued a decision remanding the matter to the Commission for further proceedings. Nucor Corp. v. United States, Slip Op. 09-16 (Ct. Int'l Trade, March 9, 2009). In its opinion, the Court affirmed the Commission's cumulation analysis, but found that the Commission's conclusions concerning likely subject import volume, likely price effects, and likely impact were unsupported by substantial evidence. The Court instructed the Commission on remand to address six issues. In particular, it instructed the Commission to: (1) Re-evaluate its finding that the ArcelorMittal companies and/or Mittal USA would limit subject imports from the Mittal Companies; (2) reassess and further explain the basis for its findings that significant imports in any region of the country are likely to have a disruptive impact on the overall U.S. market; (3) reassess and further explain the behavior of ArcelorMittal and its predecessor, the Ispat organization, with respect to their business practices in exporting to countries in which they maintain production facilities; (4) reassess and further explain certain evidence the Court perceived contrary to the Commission's conclusion on likely subject import volume; (5) reassess likely price effects in accordance with its revised volume determination and; (6) reassess its likely impact analysis in accordance with its revised volume and price effects determinations, and to explain the poor performance of the domestic industry in the latter portion of the period of review.

Participation in the proceeding.—Only those persons who were interested parties to the original reviews (i.e., persons listed on the Commission Secretary's service list) and were parties to the appeal may participate as parties in the remand proceeding as of right. Such persons need not re-file their appearance notices or protective order applications to participate in the remand proceeding. The Commission will consider permitting Mittal USA to participate as a party in the remand if it files a notice of appearance with the Commission by May 11. Business proprietary information (“BPI”) referred to during the remand proceeding will be governed, as appropriate, by the administrative protective order issued in the original reviews.

Written submissions.—The Commission is reopening the record to obtain additional information pertinent to the issues on which the Court has directed a remand. The Commission seeks additional information regarding the operations of ArcelorMittal, its affiliates including Mittal USA, and its predecessor companies including Ispat and Ispat Inland (collectively “Mittal”). Specifically, the Commission seeks information concerning—

(a) Mittal's policies and practices with respect to,

(b) Mittal's evaluation of the economic incentives of, and

(c) The possible market disruption of, shipping hot-rolled steel products produced by one Mittal company to the market in which another Mittal company is located, including the European Union and the United States. The specific questions are posted on the ITC's Internet site at http://www.usitc.gov/trade_remedy/731_ad_701_cvd/investigations/completed/index.htm (under “Hot-Rolled Steel Products”).

The information should be in the form of documents or affidavits with specific evidence (and not theories) and must pertain to the period on or before October 2, 2007, the date on which the record closed in the reviews at issue. Documents submitted must have been in existence as of that date. Affidavits may be provided only by individuals having specific knowledge of the above-described issue as of that date, and must set forth the basis of the individual's knowledge. Parties need not re-submit documents or affidavits that are already part of the record of these reviews.

No argument or commentary is permitted in these submissions.

Business proprietary information included in your submission will be so treated by the Commission and will not be disclosed except as may be required by law.

Submissions containing additional information must be submitted to the Commission no later than May 14, 2009. Questions concerning this request or other matters relating to the remand may be directed to Mary Messer (202-205-3193 or mary.messer@usitc.gov) of the Commission's staff. Correspondence may be sent to the above address or via FAX to 202-205-3205.

In addition, the Commission will permit the parties to file comments pertaining to the inquiries that are the subject of the CIT's remand instructions and any new factual information. Comments should be limited to no more than fifteen (15) double-spaced and single-sided pages of textual material. The parties may not submit any new factual information in their comments and may not address any issue other than the inquiries that are the subject of the CIT's remand instructions. Any such comments must be filed with the Commission no later than May 29, 2009.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (Nov. 8, 2002).

In accordance with sections 201.16(c) and 207.3 of the Commission's rules, each document filed by a party to the investigation must be served on all other parties to the investigation (as identified by either the public or BPI service list), and a certificate of service must be timely filed. The Secretary will not accept a document for filing without a certificate of service.

Parties are also advised to consult with the Commission's Rules of Practice and Procedure, part 201, subparts A through E (19 CFR part 201), and part 207, subpart A (19 CFR part 207) for provisions of general applicability concerning written submissions to the Commission.

Issued: May 5, 2009.
By order of the Commission.
Marilyn R. Abbott,
Secretary to the Commission.

[FR Doc. E9-10929 Filed 5-8-09; 8:45 am]

BILLING CODE 7020-02-P